DEPARTMENT OF TRANSPORTATION

Federal Aviation Administration

Notice of Intent To Rule on Application To Impose and Use the Revenue From a Passenger Facility Charge (PFC) at Hattiesburg-Laurel Regional Airport, Hattiesburg, MS

AGENCY: Federal Aviation Administration (FAA), DOT.

ACTION: Notice of intent to rule on application.

SUMMARY: This correction revises information from the previously published notice.

In notice document 00-29918 appearing in the issue of Wednesday, November 22, 2000, under SUPPLEMENTARY INFORMATION, in the first column, in the fifteenth line, the date the FAA will approve or disapprove the application, in whole or part, no later than should read “March 15, 2001”.

FOR FURTHER INFORMATION CONTACT: Patrick Vaught, Program Manager, FAA/Airports District Office, 100 West Cross Street, Suite B, Jackson, MS 39208-2307, 601-664-9885.

Issued in Jackson, Mississippi on November 24, 2000.
Patrick Vaught,
Acting Manager, Jackson Airports District Office, Southern Region.

[FR Doc. 00-30774 Filed 12-1-00; 8:45 am]

BILLING CODE 4910-13-M